NEIGHBORHOOD REINVESTMENT CORPORATION

Audit Committee Meeting of the Board of Directors; Sunshine Act

TIME AND DATE: 11:00 a.m., Thursday, September 8, 2011.

PLACE: 1325 G Street, NW., Suite 800, Boardroom, Washington, DC 20005.

STATUS: Open.

CONTACT PERSON FOR MORE INFORMATION: Erica Hall, Assistant Corporate Secretary, (202) 220-2376; ehall@nw.org.

AGENDA:

I. CALL TO ORDER

II. Executive Session with Internal Audit Director

III. Internal Audit Report with Management's Response

IV. FY `11 and `12 Risk Assessments and Internal Audit Plans

V. Internal Audit Resource Capacity Proposal

VI. Communication of Internal Audit Reports to External Parties/Posting of Internal Audit Reports to NW.org

VII. New Internal Audit Staff Hire Report

VIII. External Business Relationships

IX. Internal Audit Status Reports

X. Executive Session Related to Litigation and Special Review

XI. National Foreclosure Mitigation Counseling (NFMC)/Emergency Homeowners Loan Program (EHLP) Update

XII. CFO Update

XIII. OHTS Watch List

XIV. Pending Litigation

XV. Adjournment

Erica Hall,
Assistant Corporate Secretary.

[FR Doc. 2011-22748 Filed 9-1-11; 11:15 am]

BILLING CODE 7570-02-P